NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: September 8, 2010-September 9, 2010, 8:30 a.m.-1 p.m.

Place: Stafford I, Room 1235, National Science Foundation, 4201 Wilson Blvd., Arlington, Virginia 22230.

Type of Meeting: Open.

For Further Information Contact: Melissa Lane, National Science Foundation, Suite 705, 4201 Wilson Blvd., Arlington, Virginia 22230. Phone 703-292-8500.

Minutes: May be obtained from the contact person listed above.

Purpose of Meeting: To provide advice, recommendations, and oversight concerning support for environmental research and education.

Agenda

September 8, 2010

• Update on recent NSF environmental activities.

• Discussion of Research Centers and Networks.

• Meeting with the Director.

September 9, 2010

• Discussion of Better Integrating Social and Physical Science Research.

• Update and Discussion of NSF Science, Engineering and Education for Sustainability (SEES) Portfolio.

Dated: August 10, 2010.
Susanne Bolton,
Committee Management Officer.

[FR Doc. 2010-20057 Filed 8-13-10; 8:45 am]

BILLING CODE P